DEPARTMENT OF ENERGY

Extension of the Public Comment Period for the Draft Tank Closure and Waste Management Environmental Impact Statement for the Hanford Site, Richland, WA

AGENCY: Department of Energy.

ACTION: Extension of the public comment period.

SUMMARY: The U.S. Department of Energy (DOE) is extending the public comment period for the Draft Tank Closure and Waste Management Environmental Impact Statement for the Hanford Site, Richland, Washington (Draft EIS, DOE/EIS-00391), made available for public comment on October 30, 2009 (74 FR 56194). The public comment period for the Draft EIS was to complete on March 19, 2010, and will be extended for 45 days. The new date for the close of the Public Comment period is now May 3, 2010. The extension is being made at the request of several reviewers.

ADDRESSES: The Draft EIS is available electronically through, and written comments can be submitted at, TC&WMEIS@saic.com, or by faxing to (888) 785-2865. Paper copies may be obtained by request to the EIS Web site or by contacting: Mary Beth Burandt, Document Manager, Office of River Protection, P.O. Box 1178, Richland, Washington, 99352, 888-829-6347. The Draft EIS is also available at DOE's National Environmental Policy Act (NEPA) Web site at http://www.gc.energy.gov/nepa.

FOR FURTHER INFORMATION CONTACT: For further information on the Draft EIS, contact Ms. Burandt at the address above or by telephone at 1-888-785-2865. For further information on DOE's NEPA process, contact Carol M. Borgstrom, Director, Office of NEPA Policy and Compliance, Office of General Counsel, U.S. Department of Energy, Washington, DC 20585-0103, Telephone: (202) 586-4600, or leave a message at (800) 472-2756. Further information on the Draft EIS is also available through the Hanford Web site at: http://www.hanford.gov/orp.

Issued in Washington, DC, on March 15, 2010.
William M. Levitan,
Director, Office of Environmental Compliance, Office of Environmental Management.

[FR Doc. 2010-6046 Filed 3-18-10; 8:45 am]

BILLING CODE 6450-01-P